FEDERAL RESERVE SYSTEM

Agency Information Collection Activities: Announcement of Board Approval Under Delegated Authority and Submission to OMB

AGENCY: Board of Governors of the Federal Reserve System.

SUMMARY: The Board of Governors of the Federal Reserve System (Board) is adopting a proposal to extend for three years, with revision, the Recordkeeping and Disclosure Provisions Associated with Real Estate Appraisal Standards (FR Y-30; OMB No. 7100-0250). The revisions are effective immediately.

FOR FURTHER INFORMATION CONTACT: Federal Reserve Board Clearance Officer—Nuha Elmaghrabi—Office of the Chief Data Officer, Board of Governors of the Federal Reserve System, Washington, DC 20551, (202) 452-3829.

Office of Management and Budget (OMB) Desk Officer—Shagufta Ahmed—Office of Information and Regulatory Affairs, Office of Management and Budget, New Executive Office Building, Room 10235, 725 17th Street NW, Washington, DC 20503, or by fax to (202) 395-6974.

SUPPLEMENTARY INFORMATION: On June 15, 1984, OMB delegated to the Board authority under the PRA to approve and assign OMB control numbers to collections of information conducted or sponsored by the Board. Board-approved collections of information are incorporated into the official OMB inventory of currently approved collections of information. The OMB inventory, as well as copies of the PRA Submission, supporting statements, and approved collection of information instrument(s) are available at https://www.reginfo.gov/public/do/PRAMain. These documents are also available on the Federal Reserve Board's public website at https://www.federalreserve.gov/apps/reportforms/review.aspx or may be requested from the agency clearance officer, whose name appears above.

Final Approval Under OMB Delegated Authority of the Extension for Three Years, With Revision, of the Following Information Collection

Report title: Recordkeeping and Disclosure Provisions Associated with Real Estate Appraisal Standards.¹

¹ This information collection was previously titled Recordkeeping Requirements Associated with Real Estate Appraisal Standards for Federally Related Transactions Pursuant to Regulations H and Y (FR H-4; OMB No. 7100-0250). Under the proposal, this information collection would no longer include references to section 208.51 of the Board's Regulation H (12 CFR 208.51), which is cleared by the Board as part of the FR H-5 clearance (OMB No. 7100-0261). This change would not affect the burden estimate for this collection of information, as prior burden calculations for the FR H-4 have not included any burden associated with section 208.51 of Regulation H. Additionally, as described in this Supporting Statement, the proposal would replace references to section 208.50 of Regulation H with references to subpart G of Regulation Y as the source for certain appraisal standards for state member banks. Therefore, the Board has modified the title and agency tracking number of the FR H-4 information collection to reflect that it will no longer account for provisions of Regulation H.

Agency form number: FR Y-30.

OMB control number: 7100-0250.

Effective Date: The revisions are effective immediately.

Frequency: Event-generated.

Respondents: State member banks (SMBs) and nonbank subsidiaries of bank holding companies (BHCs).

Estimated number of respondents: SMBs, 740; nonbank subsidiaries of BHCs, 1,126.

Estimated average hours per response: SMBs, 5 minutes; nonbank subsidiaries of BHCs, 5 minutes.

Estimated annual burden hours: Recordkeeping, SMBs, 25,837; nonbank subsidiaries of BHCs, 2,346. Disclosure, SMBs, 62; nonbank subsidiaries of BHCs, 94.

General description of report: Title XI of the Financial Institutions Reform, Recovery, and Enforcement Act of 1989 (FIRREA) (12 U.S.C. 3331 et seq.) requires that, for federally related transactions,² regulated institutions obtain real estate appraisals performed by certified or licensed appraisers in conformance with uniform appraisal standards.³ The Board's regulations implementing Title XI of FIRREA, contained in the Board's Regulation Y, include certain recordkeeping requirements that apply to SMBs, BHCs, and nonbank subsidiaries of BHCs that extend mortgage credit (together, institutions). The Board and other supervisory agencies also have issued Interagency Appraisal and Evaluation Guidelines (the Guidelines) that convey supervisory expectations relating to real estate appraisals and evaluations used to support real estate-related financial transactions.⁴ These Guidelines recommend that institutions adopt certain policies and procedures to ensure compliance with Title XI of FIRREA and Regulation Y.

² A “federally related transaction” means any real estate-related financial transaction which (A) a federal financial institutions regulatory agency or the Resolution Trust Corporation engages in, contracts for, or regulates; and (B) requires the services of an appraiser (12 U.S.C. 3350(4)). The term “real estate-related financial transaction” means any transaction involving (A) the sale, lease, purchase, investment in or exchange of real property, including interests in property, or the financing thereof; (B) the refinancing of real property or interests in real property; and (C) the use of real property or interests in property as security for a loan or investment, including mortgage-backed securities (12 U.S.C. 3350(5)).

³ 12 U.S.C. 3339. The Board also has the authority to require reports from bank holding companies (12 U.S.C. 1844(c)) and state member banks (12 U.S.C. 248(a) and 324).

⁴ See SR 18-5/CA 18-7: Interagency Statement Clarifying the Role of Supervisory Guidance (Sept. 12, 2018).

Legal authorization and confidentiality: The FR Y-30 is authorized pursuant to Title XI of FIRREA.³ The obligation to respond is mandatory. The recordkeeping provisions contained in the Guidelines, which is nonbinding, are voluntary.⁴

Because FR Y-30 records would be maintained at each banking organization, the Freedom of Information Act (“FOIA”) would only be implicated if the Board obtained such records as part of the examination or supervision of a banking organization. In the event the records are obtained by the Board as part of an examination or supervision of a financial institution, this information may be considered confidential pursuant to exemption 8 of the FOIA, which protects information contained in “examination, operating, or condition reports” obtained in the bank supervisory process.⁵ In addition, the information may also be kept confidential under exemption 4 for the FOIA, which protects commercial or financial information obtained from a person that is privileged or confidential.⁶

⁵ 5 U.S.C. 552(b)(8).

⁶ 5 U.S.C. 552(b)(4).

Current actions: On October 14, 2020, the Board published a notice in the Federal Register (85 FR 65050) requesting public comment for 60 days on the extension, with revision, of the FR Y-30. The Board proposes to revise the FR Y-30 to account for the collections of information contained in the Guidelines. Although previous OMB Supporting Statements for the FR H-4, the former agency tracking number for this clearance, referred to the Guidelines, the Board did not formally clear these collections of information or account for their corresponding burden. The comment period for this notice expired on December 14, 2020. The Board did not receive any comments. The revisions will be implemented as proposed.

Board of Governors of the Federal Reserve System, February 10, 2021.
Michele Taylor Fennell,
Deputy Associate Secretary of the Board.

[FR Doc. 2021-03073 Filed 2-12-21; 8:45 am]

BILLING CODE 6210-01-P